DEPARTMENT OF TRANSPORTATION

Surface Transportation Board

[STB Finance Docket No. 34878]

BNSF Railway Company—Temporary Trackage Rights Exemption—Union Pacific Railroad Company

Union Pacific Railroad Company (UP), pursuant to a written trackage rights agreement entered into between UP and BNSF Railway Company (BNSF), has agreed to grant BNSF overhead temporary trackage rights over UP's line of railroad between Round Rock, TX (near milepost 160.4), and Ajax, TX (near milepost 209.1), on UP's Austin Subdivision, a distance of approximately 48.7 miles.

The transaction was scheduled to be consummated on May 18, 2006 (the effective date of the exemption), and the temporary trackage rights are intended to expire on July 15, 2006. The purpose of the temporary trackage rights is to relieve congestion on UP's rail system in the San Antonio, TX area.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employees affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34878, must be filed with the Surface Transportation Board, 1925 K Street, NW., Washington, DC 20423-0001. In addition, a copy of each pleading must be served on Sidney L. Strickland, Jr., 3050 K Street, NW., Suite 101, Washington, DC 20007.

Board decisions and notices are available on our Web site at http://www.stb.dot.gov.

Decided: May 19, 2006.
By the Board, David M. Konschnik, Director, Office of Proceedings.
Vernon A. Williams,
Secretary.

[FR Doc. E6-8038 Filed 5-25-06; 8:45 am]

BILLING CODE 4915-01-P